FEDERAL COMMUNICATIONS COMMISSION

Notice of Public Information Collection(s) Being Reviewed by the Federal Communications Commission

February 8, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 26, 2001. If you anticipate that you will be submitting comments, but find it difficult to do so within the period of time allowed by this notice, you should advise the contact listed below as soon as possible.

ADDRESSES: Direct all comments to Judy Boley, Federal Communications Commission, Room 1-C804, 445 12th Street, SW., DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0182.

Title: Section 73.1620, Program Tests.

Form No.: N/A.

Type of Review: Extension of a currently approved collection.

Respondents: Businesses or other for-profit and not-for-profit institutions.

Number of Respondents: 1,416.

Estimated Time Per Response: 1-5 hours.

Frequency of Response: On occasion reporting requirement and third party disclosure requirement.

Total Annual Burden: 1,480 hours.

Total Annual Cost: N/A.

Needs and Uses: The notification to the FCC regarding program tests (Section 73.1620(a)) alerts FCC that station construction is complete and the station is ready to broadcast program material. The notification to UHF translator stations (Section 73.1620(f)) alerts the station that the potential for interference exists. The report to FCC regarding deviations (Section 73.1620(g)) ensures that comparative promises relating to services are not inflated.

OMB Control No.: 3060-0621.

Title: Rules and Requirements for C & F Block Broadband PCS Licenses.

Form No.: FCC Form 175.

Type of Review: Extension of a currently approved collection.

Respondents: Individuals or households, businesses or other for-profit, not-for-profit institutions, and state, local or tribal government.

Number of Respondents: 3,000.

Estimated Time Per Response: .50 to 20 hours.

Frequency of Response: On occasion reporting requirement and recordkeeping requirement.

Total Annual Burden: 14,044 hours.

Total Annual Cost: N/A.

Needs and Uses: The Commission's rules require applicants to file information so that the Commission can determine whether the applicant is legally, technically and financially qualified to be licensed and to determine whether the applicant(s) claiming different eligibility statuses are entitled to certain benefits.

OMB Control No.: 3060-0767.

Title: Auction Forms and License Transfer Disclosures—Supplement for the Second Report and Order, Order on Reconsideration, and Fifth Notice of Proposed Rulemaking in CC Docket No. 92-297.

Form No.: N/A.

Type of Review: Extension of a currently approved collection.

Respondents: Individuals or households, businesses or other for-profit, not-for-profit institutions, and state, local or tribal government.

Number of Respondents: 22,000.

Estimated Time Per Response: .25-3.75 hours.

Frequency of Response: On occasion reporting requirement, recordkeeping requirement and third party disclosure requirement.

Total Annual Burden: 762,000 hours.

Total Annual Cost: $45,333,000.

Needs and Uses: The Commission's rules require small business applicants to submit ownership information and gross revenue calculations, and all applicants must submit joint bidding agreements. In the case of default, the FCC retains the discretion to re-auction such licenses. Finally, licensees transferring licenses within 3 years are required to maintain a file of all documents and contracts pertaining to the transfer. Certification is required for entities dropping out of auction to secure certain ownership interests in participants.

OMB Control No.: 3060-0600.

Title: Application to Participate in a FCC Auction.

Form No.: FCC Form 175.

Type of Review: Extension of a currently approved collection.

Respondents: Individuals or households, businesses or other for-profit, not-for-profit institutions, and state, local or tribal government.

Number of Respondents: 11,000.

Estimated Time Per Response: .25 hours.

Frequency of Response: On occasion reporting requirement.

Total Annual Burden: 2,750 hours.

Total Annual Cost: N/A.

Needs and Uses: This information collection allows the FCC to ascertain whether or not applicants for spectrum have ever been in default on any Commission licenses or have ever been delinquent on any non-tax debt owed to a Federal agency. The information will allow the Commission to determine the amount of the up-front payment to be paid by each applicant and will help ensure that auctions are conducted fairly and efficiently, thereby speeding the flow of payments to the U.S. Treasury and accelerating the provision of wireless service to the public.

OMB Control Number: 3060-0261.

Title: Transmitter Measurements, 47 CFR Section 90.215.

Form Number: N/A.

Type of Review: Extension of a currently approved collection.

Respondents: Businesses or other for-profit entities; Not-for-profit institutions; Individuals or households; and State, local, or tribal governments.

Number of Respondents: 20,075.

Estimated Time Per Response: 2 mins. (0.033 hrs.).

Frequency of Response: Recordkeeping requirement.

Total Annual Burden: 663 hours.

Total Annual Costs: None.

Needs and Uses: This information collection, 47 CFR section 90.251, requires licensees to measure carrier frequency, output power, and modulation of each transmitter authorized to operate with power in excess of two watts when the transmitter is initially installed and when any changes are made that would likely affect such parameters. This information, which is required to be maintained in the station's records, helps to assure proper operation of transmitters—that the equipment is operating within prescribed tolerances, thereby reducing instances of interference to other users.

Federal Communications Commission.
Magalie Roman Salas,
Secretary.

[FR Doc. 01-4319 Filed 2-21-01; 8:45 am]

BILLING CODE 6712-01-P